DEPARTMENT OF HOMELAND SECURITY

Federal Emergency Management Agency

44 CFR Part 65

[Docket No. FEMA-P-7642]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Illinois:
Kane (Case No.: 04-05-2895P) | City of Aurora | Nov. 10, 2004, Nov. 17, 2004, Kane County Chronicle | The Honorable David L. Stover, mayor, city of Aurora, 44 East Downer Place, Aurora, IL 60507 | Feb. 16, 2005 | 170320
Will (Case No.: 04-05-3544P) | Village of Bolingbrook | Jan. 28, 2005, Feb. 4, 2005, The Bolingbrook Sun | The Honorable Roger C. Claar, mayor, village of Bolingbrook, 375 West Briarcliff Road, Bolingbrook, IL 60440 | Jan. 13, 2005 | 170812
Cook (Case No.: 03-05-3975P) | Unincorporated Areas | Dec. 2, 2004, Dec. 9, 2004, The Chicago Tribune | The Honorable John H. Stroger, Jr., president, Cook County Board of Commissioners, 118 N. Clark Street, Room 537, Chicago, IL 60602 | March 10, 2005 | 170054
Will (Case No.: 04-05-4065P) | City of Joliet | Feb. 3, 2005, Feb. 10, 2005, Farmers Weekly Review | The Honorable Arthur Schultz, mayor, city of Joliet, 150 West Jefferson Street, Joliet, IL 60432 | Jan. 13, 2005 | 170702
Winnebago (Case No.: 04-05-2896P) | City of Love's Park | Jan. 24, 2005, Jan. 31, 2005, The Rockford Register Star | The Honorable Darryl F. Lindberg, mayor, city of Loves Park, 100 Heart Boulevard, Loves Park, IL 61111 | Jan. 14, 2005 | 170722
Will (Case No.: 04-05-3549P) | Village of Mokena | Dec. 2, 2004, Dec. 9, 2004, The Lincoln-Way Sun | The Honorable Robert Chiszar, mayor, village of Mokena, 11004 Carpenter Street, Mokena, IL 60448 | Mar. 10, 2005 | 170705
Cook (Case No.: 03-05-3975P) | Village of Orland Park | Dec. 2, 2004, Dec. 9, 2004, The Orland Township Messenger | The Honorable Dan McLaughlin, mayor, city of Orland Park, 14700 South Ravinia Avenue, Orland Park, IL 60462 | Mar. 10, 2005 | 170140
Cook (Case No.: 03-05-3975P) | Village of Tinley Park | Dec. 2, 2004, Dec. 9, 2004, The Star | The Honorable Edward J. Zabrocki, mayor, village of Tinley Park, 16250 S. Oak Park Avenue, Tinley Park, IL 60477 | Mar. 10, 2005 | 170169
Will (Case No.: 04-05-3560P) | Unincorporated Areas | Jan. 5, 2005, Jan. 12, 2005, The Herald News | The Honorable Lawrence A. Walsh, Will County Executive, Will County Office Building, 302 North Chicago Street, Joliet, IL 60432 | Dec. 13, 2004 | 170695
Winnebago (Case No.: 04-05-2896P) | Unincorporated Areas | Jan. 24, 2005, Jan. 31, 2005, The Rockford Register Star | Mr. Scott Christiansen, Chairman, Winnebago County Board, 404 Elm Street, Rockford, IL 61101 | Jan. 14, 2005 | 170720
Michigan:
Macomb (Case No.: 04-05-2345P) | Township of Shelby | Jan. 24, 2005, Jan. 31, 2005, The Macomb Daily | Mr. Ralph L. Maccarone, Township Supervisor, Township of Shelby, 52700 Vann Dyke Avenue, Shelby Township, MI 48316 | Jan. 11, 2005 | 260126
Macomb (Case No.: 04-05-2879P) | City of Sterling Heights | Jan. 12, 2005, Jan. 19, 2005, Sterling Heights Sentry | The Honorable Richard J. Nottle, mayor, city of Sterling Heights, 40555 Utica Road, Sterling Heights, MI 48311 | Dec. 21, 2004 | 260128
Minnesota: Dakota (Case No.: 04-05-2882P) | City of Burnsville | Dec. 2, 2004, Dec. 9, 2004, Dakota County Tribune | The Honorable Elizabeth Kautz, mayor, city of Burnsville, 100 Civic Center Parkway, Burnsville, MN 55337 | Mar. 10, 2005 | 270102
Missouri:
Clay (Case No.: 04-07-531P) | Village of Claycomo | Dec. 15, 2004, Dec. 22, 2004, Dispatch Tribune | The Honorable Lois Anderson, Claycomo Village Administrator and Floodplain Administrator, 115 East Highway 69, Claycomo, MO 64119 | Mar. 23, 2005 | 290089
St. Charles (Case No.: 03-07-886P) | City of O'Fallon | Dec. 29, 2004, Jan. 5, 2005, The O'Fallon Journal | The Honorable Paul F. Renaud, mayor, city of O'Fallon, O'Fallon Municipal Centre, 100 North Main Street, O'Fallon, MO 63366 | Apr. 6, 2005 | 290316
New Mexico: Bernalillo (Case No.: 04-06-1904P) | City of Albuquerque | Jan. 21, 2005, Jan. 28, 2005, The Albuquerque Journal | The Honorable Martin Chavez, mayor, city of Albuquerque City/County Building 11th Floor, One Civic Plaza NW, Albuquerque, NM 87103 | Jan. 12, 2005 | 350002
Ohio: Shelby (Case No.: 04-05-3548P) | Unincorporated Areas | Dec. 22, 2004, Dec. 29, 2004, Sidney Daily News | The Honorable John D. Schmitt, Shelby County Judge, Shelby County Courthouse,P.O. Box 947, Sidney, OH 45365 | Mar. 30, 2005 | 390503
Oklahoma:
Tulsa (Case No.: 03-06-1547P) | City of Owasso | Dec. 9, 2004, Dec. 16, 2004, Owasso Reporter | The Honorable Susan Kimball, mayor, city of Owasso, P.O. Box 180, Owasso, OK 74055 | Nov. 23, 2004 | 400210
Tulsa (Case No.: 03-06-1547P) | Unincorporated Areas | Dec. 9, 2004, Dec. 16, 2004, Tulsa World | The Honorable Wilbert Collins, Sr., chairman, Tulsa County Board of Commissioners, 500 South Denver, Tulsa, OK 74103 | Nov. 23, 2004 | 400462
Texas: Parker (Case No.: 04-06-1202P) | City of Aledo | Dec. 13, 2004, Dec. 20, 2004, The Weatherford Democrat | The Honorable Susan Langley, mayor, city of Aledo, 100 Sanchez Trail, Aledo, TX 76008 | Mar. 21, 2005 | 481659
Travis (Case No.: 03-06-2670P) | City of Austin | Dec. 15, 2004, Dec. 22, 2004, Austin American Statesman | The Honorable Will Wynn, mayor, city of Austin, P.O. Box 1088, Austin, TX 78767 | Mar. 23, 2005 | 480624
Hays (Case No.: 04-06-1001P) | City of Buda | Jan. 6, 2005, Jan. 13, 2005, The Free Press | The Honorable John Trube, mayor, city of Buda, P.O. Box 1218, Buda, TX 78610 | Apr. 14, 2005 | 481640
Denton (Case No.: 04-06-1463P) | City of Corinth | Jan. 18, 2005, Jan. 25, 2005, Denton Record Chronicle | The Honorable Vic Burgess, mayor, city of Corinth, 3300 Corinth Parkway, Corinth, TX 76208 | Apr. 26, 2005 | 481143
Tarrant (Case No.: 04-06-1204P) | City of Crowley | Dec. 13, 2004, Dec. 20, 2004, The Star Telegram | The Honorable Billy Davis, mayor, city of Crowley, 120 North Hampton Road, Crowley, TX 76036 | Mar. 21, 2005 | 480591
Dallas (Case No.: 04-06-867P) | City of Dallas | Dec. 22, 2004, Dec. 29, 2004, Dallas Morning News | The Honorable Laura Miller, mayor, city of Dallas, Dallas City Hall, 1500 Marilla Street, Rom 5EN, Dallas, Texas 75201-6390 | Mar. 30, 2005 | 480171
Fort Bend (Case No.: 04-06-2152P) | Unincorporated Areas | Jan. 26, 2005, Feb. 2, 2005, Fort Bend Star | The Honorable Robert E. Hebert, Judge, Fort Bend County, 301 Jackson Street, Suite 719, Richmond, TX 77469 | Jan. 14, 2005 | 480228
Tarrant (Case No.: 04-06-1204P) | City of Fort Worth | Dec. 13, 2004, Dec. 20, 2004, The Star Telegram | The Honorable Michael Moncrief, mayor, city of Fort Worth, 1000 Throckmorton Street, Fort Worth, TX 76102 | Mar. 21, 2005 | 480596
Hays (Case No.: 04-06-1001P) | Unincorporated Areas | Jan. 6, 2005, Jan. 13, 2005, The Free Press | The Honorable Jim Powers, Judge, Hays County, 111 E. San Antonio Street, Suite 300, San Marcos, TX 78666 | Apr. 14, 2005 | 480321
Fort Bend, Harris and Waller (Case No.: 04-06-2152P) | City of Katy | Jan. 26, 2005, Feb. 2, 2005, The Katy Times | The Honorable Doyle Callender, mayor, city of Katy, 910 Avenue C, Katy, TX 77493 | Jan. 14, 2005 | 480301
Parker (Case No.: 04-06-1202P) | Unincorporated Areas | Dec. 13, 2004, Dec. 20, 2004, The Weatherford Democrat | The Honorable Mark Riley, Judge, Parker County, 1 Courthouse Square, Weatherford, TX 76086 | Mar. 21, 2005 | 480520
Denton (Case No.: 03-06-2687P) | City of The Colony | Jan. 26, 2005, Feb. 2, 2005, The Colony Courier Leader | The Honorable John Dillard, mayor, city of The Colony, City Hall, 6800 Main Street, The Colony, TX 75056 | Feb. 14, 2005 | 481581
Waller (Case No.: 04-06-2152P) | Unincorporated Areas | Jan. 27, 2005, Feb. 3, 2005, Waller County News Citizen | The Honorable Owen Ralston, Judge, Waller County, 836 Austin Street, Room 203, Hempstead, TX 77445 | Jan. 14, 2005 | 480460

(Catalog of Federal Domestic Assistance No. 83.100, “Flood Insurance”)
Dated: March 25, 2005.
David I. Maurstad,
Acting Director, Mitigation Division, Emergency Preparedness and Response Directorate.

[FR Doc. 05-6430 Filed 3-31-05; 8:45 am]

BILLING CODE 9110-12-P -Name: -Payroll No: -Folios: -Date: 03-07-05?]